DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Census Quality Survey to Evaluate Responses to the Census 2000 Question on Race

Form Number(s): CQS-1A, CQS-1B, CQS-1A(E), CQS-1B(E), CQS-1A(E)SUPP, CQS-1B(E)SUPP, CQS-6, CQS-7(L) , CQS-8(L), CQS-1A(F), CQS-1B(F).

Agency Approval Number: None.

Type of Request: New collection.

Burden: 20,833 hours.

Number of Respondents: 50,000.

Avg Hours Per Response: Initial response—10 minutes; telephone recontact—15 minutes.

Needs and Uses: The Census Bureau requests authorization from the Office of Management and Budget (OMB) to conduct the Census Quality Survey to Evaluate Responses to the Census 2000 Question on Race. The proposed survey is the principal vehicle for evaluating fundamental changes to the questions on race and Hispanic origin used in Census 2000. This survey is critical to implementing the OMB guidance on Aggregate and Allocation of Data on Race for Use in Civil Rights Monitoring and Enforcement. On October 30, 1997, the OMB issued revised standards by which all federal agencies, beginning with Census 2000, are to collect, tabulate, and present data on race and ethnicity. Included in these standards was the identification of a minimum of five racial categories—White, Black or African American, American Indian or Alaska Native, Asian, and Native Hawaiian or Other Pacific Islander. For the 1990 Census the 16 separate response categories collapsed into a minimum of four racial categories consistent with the 1977 OMB guidance: White; Black; American Indian or Alaskan Native; and Asian or Pacific Islander. The standards also included changes in the terminology used for each group and the sequencing of the questions on race and Hispanic origin. In the 1990 Census, the question on race preceded the question on Hispanic origin with two intervening questions. For Census 2000, the question on Hispanic origin is immediately before the question on race with a note to respondents to answer both questions. The most profound change to the standards was that of allowing respondents to report one or more races if they chose to do so. Some of the impetus for the OMB change to allow the reporting of one or more races came from the increasing number of interracial marriages and births to parents of different races in the past 25 to 35 years. For governmental, non-governmental, and private sector data users, there is a need to understand how the Census 2000 race distributions compare to race distributions from previous censuses, current surveys and other data collection procedures where respondents were instructed to report only one race. The survey also will include three questions to reinforce the idea that we are interested in improving census quality and how the Census might conduct the next census.

Affected Public: Individuals or households.

Frequency: One time.

Respondent's Obligation: Mandatory.

Legal Authority: Title 13 U.S.C., Sections 141 and 193.

OMB Desk Officer: Susan Schechter, (202) 395-5103.

Copies of the above information collection proposal can be obtained by calling or writing Madeleine Clayton, Departmental Forms Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: February 26, 2001.
Madeleine Clayton,
Departmental Forms Clearance Officer, Office of the Chief Information Officer.

[FR Doc. 01-5011 Filed 2-28-01; 8:45 am]

BILLING CODE 3510-07-P